DEPARTMENT OF COMMERCE

International Trade Administration

[A-351-845]

Hot-Rolled Steel Flat Products From Brazil: Rescission of Antidumping Duty Administrative Review: 2019-2020

AGENCY: Enforcement and Compliance, International Trade Administration, Department of Commerce.

SUMMARY: The Department of Commerce (Commerce) is rescinding the administrative review of the antidumping duty (AD) order on hot-rolled steel flat products from Brazil for the period of review (POR) October 1, 2019, through September 30, 2020, based on the timely withdrawal of the request for review.

DATES: Applicable February 24, 2021.

FOR FURTHER INFORMATION CONTACT: Dusten Hom, AD/CVD Operations, Office I, Enforcement and Compliance, International Trade Administration, U.S. Department of Commerce, 1401 Constitution Avenue NW, Washington, DC 20230; telephone: (202) 482-5075.

SUPPLEMENTARY INFORMATION:

Background

On October 1, 2020, Commerce published a notice of opportunity to request an administrative review of the AD order on hot-rolled steel flat products from Brazil for the POR of October 1, 2019, through September 30, 2020.¹ In accordance with section 751(a) of the Tariff Act of 1930, as amended (the Act), and 19 CFR 351.213(b), Commerce received a timely-filed request for an administrative review from AK Steel Corporation, United States Steel Corporation, Steel Dynamics, Inc., and SSAB Enterprises, LLC (collectively, the Domestic Interested Parties) for the following producers/exporters: Aperam Inox America Do Sul S.A.; Arcelormittal Brasil S.A.; Companhia Siderugica Do Pecém (CSP); Gerdau Acominas S.A.; Gerdau Summit Acos Fundidos e Forjados S.A.; Lámina Desplegada S.A. de C.V.; MAHLE Metal Leve S.A.; NVent do Brasil Eletrometalurgica Ltda.; Prensas Schuler S.A.; Signode Brasileira Ltda.; Ternium Brasil Ltda.; and Usinas Siderurgicas de Minas Gerais S.A. (Usiminas).²

¹ See Antidumping or Countervailing Duty Order. Finding, or Suspended Investigation; Opportunity to Request Administrative Review, 85 FR 61926 (October 1, 2020).

² See Domestic Interested Parties' Letter, “Hot-Rolled Steel Flat Products from Brazil: Request for Administrative Review of Antidumping Duty Order,” dated October 30, 2020.

On December 8, 2020, pursuant to this request and in accordance with 19 CFR 351.221(c)(1)(i), Commerce published a notice initiating an administrative review of the AD order on hot-rolled steel flat products from Brazil with respect to the 12 requested companies.³ On February 2, 2021, the Domestic Interested Parties withdrew their request for an administrative review with respect to all of the companies for which it had requested a review.⁴

³ See Initiation of Antidumping and Countervailing Duty Administrative Reviews, 85 FR 78990 (December 8, 2020).

⁴ See Domestic Interested Parties' Letter, “Hot-Rolled Steel Flat Products from Brazil: Withdrawal of Request for Administrative Review of Antidumping Duty Order,” dated February 2, 2021.

Rescission of Review

Pursuant to 19 CFR 351.213(d)(1), Commerce will rescind an administrative review, in whole or in part, if the party or parties that requested a review withdraws the request within 90 days of the publication date of the notice of initiation of the requested review. As noted above, the Domestic Interested Parties withdrew their request for review of all companies within 90 days of the publication date of the notice of initiation. No other parties requested an administrative review of the order. Therefore, in accordance with 19 CFR 351.213(d)(1), we are rescinding this review in its entirety.

Assessment

Commerce will instruct U.S. Customs and Border Protection (CBP) to assess antidumping duties on all appropriate entries of hot-rolled steel flat products from Brazil during the POR. Antidumping duties shall be assessed at rates equal to the cash deposit of estimated antidumping duties required at the time of entry, or withdrawal from warehouse, for consumption in accordance with 19 CFR 351.212(c)(1)(i). Commerce intends to issue appropriate assessment instructions to CBP no earlier than 35 days after the date of publication of this notice in the Federal Register.

Notification to Importers

This notice serves as a reminder to importers of their responsibility under 19 CFR 351.42(f)(2) to file a certificate regarding the reimbursement of AD duties prior to liquidation of the relevant entries during this review period. Failure to comply with this requirement could result in Commerce's presumption that reimbursement of AD duties occurred and the subsequent assessment of doubled AD duties.

Notification Regarding Administrative Protective Orders

This notice also serves as the only reminder to all parties subject to administrative protective order (APO) of their responsibility concerning the disposition of proprietary information disclosed under APO in accordance with 19 CFR 351.305(a)(3). Timely written notification of the return/destruction of APO materials or conversion to judicial protective order is hereby requested. Failure to comply with the regulations and terms of an APO is a violation, which is subject to sanction.

Notification to Interested Parties

This notice is issues and published in accordance with sections 751(a)(1) and 777(i)(1) of the Act, and 19 CFR 351.213(d)(4).

Dated: February 18, 2021.
James Maeder,
Deputy Assistant Secretary for Antidumping and Countervailing Duty Operations.

[FR Doc. 2021-03779 Filed 2-23-21; 8:45 am]

BILLING CODE 3510-DS-P